DEPARTMENT OF THE INTERIOR

Bureau of Ocean Energy Management, Regulation and Enforcement

Notice of Scoping Meetings on the Environmental Impact Statement (EIS) for the Proposed 2012-2017 Outer Continental Shelf (OCS) Oil and Gas Leasing Program

AGENCY: Bureau of Ocean Energy Management, Regulation and Enforcement (BOEMRE), Interior.

ACTION: Notice of scoping meetings and request for comments.

SUMMARY: BOEMRE (formerly Minerals Management Service) provided notice in the Federal Register on April 2, 2010, (75 FR 16828) of its intent to prepare a Programmatic EIS for the proposed OCS Oil and Gas Leasing Program for 2012-2017 and request for comments. The notice also announced that scoping meetings would be held during June and early July 2010 in coastal states bordering the Mid and South Atlantic; Western, Central, and a portion of the Eastern Gulf of Mexico; and at several locations in Alaska. Subsequently, on June 30, 2010, the Secretary of the Interior Ken Salazar announced that the scoping meetings were postponed until later in 2010 because of the need for BOEMRE to focus on reviewing and evaluating safety and environmental requirements of offshore drilling in response to the Deepwater Horizon incident and that a new public comment period would later be announced. On December 1, 2010, the Secretary announced an updated oil and gas leasing strategy for the OCS. Consistent with the Secretary's direction to proceed with caution and focus on leasing in areas with current active leases, the area in the Eastern Gulf of Mexico that remains under a congressional moratorium, and the Mid and South Atlantic planning areas are no longer under consideration for potential sales and development through 2017. Therefore, meetings will not be held in these areas. The Western Gulf of Mexico, Central Gulf of Mexico, and the Cook Inlet, Chukchi Sea, and Beaufort Sea areas offshore Alaska will continue to be considered for potential leasing in the 2012-2017 OCS Program.

Scoping Meetings

Pursuant to the regulations implementing the procedural provisions of the National Environmental Policy Act (42 U.S.C. 4321, et seq.), BOEMRE will hold public scoping meetings on the Draft Programmatic EIS for the proposed 2012-2017 5-Year OCS Oil and Gas Leasing Program (Programmatic EIS). (See, 40 CFR 1501.7). The dates and locations of the Programmatic EIS public scoping meetings are as follows:

• Houston, Texas, Tuesday, February 15, 2011, Houston Airport Marriott at George Bush Intercontinental, 18700 John F. Kennedy Boulevard, Houston, Texas, 1 p.m. (This scoping meeting will also accept comments on the lease sale EIS addressing Central and Western Gulf of Mexico sales included in the 2012-2017 OCS 5-Year Program.)

• New Orleans, Louisiana, Wednesday, February 16, 2011, New Orleans Airport Hilton, 901 Airline Drive, Kenner, Louisiana, 1 p.m. (This scoping meeting will also accept comments on the lease sale EIS addressing Central and Western Gulf of Mexico sales included in the 2012-2017 OCS 5-Year Program.)

• Mobile, Alabama, Thursday, February 17, 2011, Five Rivers—Alabama's Delta Resource Center, 30945 Five Rivers Boulevard, Spanish Fort, Alabama, 1 p.m. (This scoping meeting will also accept comments on the lease sale EIS addressing Central and Western Gulf of Mexico sales included in the 2012-2017 OCS 5-Year Program.)

• Kotzebue, Alaska, Monday, February 14, 2011, Kotzebue Middle/High School, 7 p.m.

• Point Hope, Alaska, Tuesday, February 15, 2011, Point Hope School Library, 7 p.m.

• Point Lay, Alaska, Wednesday, February 16, 2011, Point Lay Community Center, 7 p.m.

• Wainwright, Alaska, Thursday, February 17, 2011, Alak School Library,

7 p.m.

• Barrow, Alaska, Monday, February 21, 2011, Inupiat Heritage Center,

7 p.m.

• Nuiqsut, Alaska, Tuesday, February 22, 2011, Nuiqsut Community Center,

7 p.m.

• Kaktovik, Alaska, Wednesday, February 23, 2011, Kaktovik Community Center, 7 p.m.

• Washington, DC/Dulles, Virginia, Thursday, February 24, 2011, Washington, DC/Dulles Airport Marriott, 45020 Aviation Drive, Dulles, Virginia, 1 p.m.

• Anchorage, Alaska, Friday, February 25, 2011, BOEMRE Regional Offices, 3801 Centerpoint Drive, Conference Room, Anchorage, Alaska, 7 p.m.

Scoping Comments

The Federal Register notice published on April 2, 2010, (75 FR 16828) established a comment period that closed on June 30, 2010. The new comment period extends to March 31, 2011. All comments received during the public comment period that closed on June 30 and all comments received during the new public comment period will be considered by BOEMRE as part of the EIS scoping process. Interested parties may submit their written scoping comments on the Programmatic EIS until March 31, 2011, to Mr. J. F. Bennett, Chief, Branch of Environmental Assessment, Bureau of Ocean Energy Management, Regulation and Enforcement, 381 Elden Street, Mail Stop 4042, Herndon, Virginia 20170-4817, or online at http://ocs5yeareis.anl.gov.

BOEMRE cautions that, before including your address, phone number, e-mail address, or other personal identifying information in your comment, you should be aware that your entire comment, including your personal identifying information, may be made publicly available at any time. While you may ask BOEMRE (prominently at the beginning of your submission) to withhold your personal identifying information from public review, BOEMRE cannot guarantee that it will be able to do so. BOEMRE will not consider anonymous comments, and BOEMRE will make available for inspection, in their entirety, all comments submitted by organizations or businesses or by individuals identifying themselves as representatives of organizations or businesses. Information concerning the Leasing Program and Programmatic EIS can be accessed at http://www.boemre.gov/5-year/.

For further information about preparation of the Programmatic EIS, please contact Mr. J. F. Bennett, Chief, Branch of Environmental Assessment, Bureau of Ocean Energy Management, Regulation and Enforcement, 381 Elden Street, Mail Stop 4042, Herndon, Virginia 20170-4817, (703) 787-1660.

Dated: December 10, 2010.
Michael R. Bromwich,
Director, Bureau of Ocean Energy Management, Regulation and Enforcement .

[FR Doc. 2010-33149 Filed 1-3-11; 8:45 am]

BILLING CODE 4310-MR-P